ENVIRONMENTAL PROTECTION AGENCY

[EPA-HQ-OPPT-2017-0648; FRL-9985-66-OEI]

Information Collection Request Submitted to OMB for Review and Approval; Comment Request; Chemical Data Reporting Under the Toxic Substances Control Act (TSCA Section 8(a)) (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Chemical Data Reporting under the Toxic Substances Control Act (TSCA section 8(a)), identified by EPA ICR No. 1884.10 and OMB Control No. 2070-0162. This is a request to renew the approval of an existing ICR that is currently scheduled to expire on October 31, 2018. The ICR, which is available in the docket along with other related materials, provides a detailed explanation of the collection activities and the burden estimate that is only briefly summarized in this document. Comments received in response to the previously provided 60-day public review opportunity are also in the docket and have been addressed in the ICR. With this submission, EPA is providing an additional 30 days for public review and comment.

DATES: Comments must be submitted on or before November 28, 2018.

ADDRESSES: Submit your comments, identified by docket identification (ID) number EPA-HQ-OPPT-2017-0648 and OMB Control No. 2070-0162, to both EPA and OMB as follows:

• To EPA online using http://www.regulations.gov (our preferred method) or by mail to: EPA Docket Center, Environmental Protection Agency, Mail Code 28221T, 1200 Pennsylvania Ave. NW, Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Meredith Comnes, Chemical Control Division (7405M), Office of Pollution Prevention and Toxics, Environmental Protection Agency, 1200 Pennsylvania Ave. NW, Washington, DC 20460-0001; telephone number: (202) 564-3193; email address: comnes.meredith@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on October 31, 2018. EPA previously announced and provided a 60-day public review and comment opportunity on the proposed renewal of this ICR in the Federal Register of July 31, 2018 (83 FR 36928) (FRL-9980-28). EPA received three comments during the comment period that have been addressed in the ICR and copies of which are available in the docket.

Under OMB regulations, the Agency may continue to conduct or sponsor the collection of information while this submission is pending at OMB. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the information collection activities associated with the statutory mandate in the Toxic Substances Control Act (TSCA), as amended by the Frank R. Lautenberg Chemical Safety for the 21st Century Act of 2016, that requires EPA to compile and keep current a complete list of chemical substances manufactured (including imported) or processed in the United States. Through the Chemical Data Reporting (CDR) regulation in 40 CFR part 711, EPA collects basic exposure-related manufacturing, processing, and use information for a subset of these chemical substances every four years, which is used by the Agency and others in a wide range of activities. The data collected is used by EPA and others to better understand and interpret the state of U.S. chemical manufacturing, processing, and use, and further enhances EPA's ability to identify, evaluate, and manage potential chemical risks.

Respondents may claim information on the report confidential. EPA will disclose information that is covered by a claim of confidentiality only to the extent permitted by, and in accordance with, the procedures described in TSCA section 14 and 40 CFR part 2.

Form numbers: EPA Form No. 7740-8.

Respondents/affected entities: Entities potentially affected by this ICR are companies that manufacture (including import) chemical substances and mixtures in the United States.

Respondent's obligation to respond: Mandatory (see TSCA section 8(b) and EPA regulations at 40 CFR part 711).

Frequency of response: Reporting is required every four years.

Total estimated number of respondents: 5,662.

Total estimated burden: 716,024 hours (per year). Burden is defined at 5 CFR 1320.3(b).

Total estimated cost: $56,959,323 (per year), includes $0 annualized capital or operation and maintenance costs.

Changes in the estimates: There is a decrease of 73,179 hours in the total estimated burden compared with that approved by OMB. This decrease reflects a combination of program changes and adjustments. Program changes involve updated CBI substantiation requirements as a result of the 2016 amendments to TSCA (−4,877 hours); and adjustments involve methodology corrections (−184,158 hours) and an increase in the estimated number of respondents (+106,102 hours). The ICR provides a detailed analysis of the change in burden estimate.

Courtney Kerwin,
Director, Regulatory Support Division.

[FR Doc. 2018-23560 Filed 10-26-18; 8:45 am]

BILLING CODE 6560-50-P